ENVIRONMENTAL PROTECTION AGENCY

[FRL-7233-1]

Agency Information Collection Activities: Submission for OMB Review; Comment Request, Investigation Into Possible Noncompliance of Motor Vehicles

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Investigation into Possible Noncompliance of Motor Vehicles; OMB Control Number 2060-0086; expiration date June 30, 2002. The ICR describes the nature of the information collection and its expected burden and cost; where appropriate, it includes the actual data collection instrument.

DATES: Comments must be submitted on or before July 18, 2002.

ADDRESSES: Send comments, referencing EPA ICR No. 0222.06 and OMB Control No. 2060-0086, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epamail.epa.gov or download off the Internet at http://www.epa.gov/icr and refer to EPA ICR No. 0222.06. For technical questions about the ICR contact Richard W. Nash, Certification and Compliance Division, 2565 Plymouth Road, Ann Arbor, MI 48103, (734) 214-4412, nash.dick@epa.gov.

SUPPLEMENTARY INFORMATION: Title: Investigation into Possible Noncompliance of Motor Vehicles; OMB Control Number 2060-0086; expiration date June 30, 2002, EPA ICR Number 0222.06. This is a request for extension of a currently approved collection.

Abstract: EPA tests in-use vehicles to verify that they meet emission standards during their useful lives. Vehicle types that do not comply are subject to recall and repair at the manufacturer's expense. In order to insure that appropriate vehicles are tested, EPA must make a very limited inquiry of their owners/lessees concerning vehicle condition.

Information collected is used to assure that vehicles procured meet certain criteria. For example, since a manufacturer's responsibility to recall passenger cars is limited to 10 years of age or 100,000 miles of use, vehicles tested to establish potential recall liability must also meet those criteria. Other testing programs and vehicle types have different criteria.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published March 11, 2002, one comment was received.

Burden Statement: The annual public reporting burden for this collection of information is estimated to average 20 minutes per response, a total of 600 hours annually. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: 1800.

Estimated Number of Respondents: 1800.

Frequency of Response: Annually.

Estimated Total Annual Hour Burden: 600.

Estimated Total Annualized Capital, O&M Cost Burden: None.

Send comments on the Agency's need for this information, the accuracy of the provided burden estimates, and any suggested methods for minimizing respondent burden, including through the use of automated collection techniques to the addresses listed above. Please refer to EPA ICR No. 0222.06 and OMB Control No. 2060-0086 in any correspondence.

Dated: June 3, 2002.
Oscar Morales,
Director, Collection Strategies Division.

[FR Doc. 02-15331 Filed 6-17-02; 8:45 am]

BILLING CODE 6560-50-P